DEPARTMENT OF HEALTH AND HUMAN SERVICES

National Committee on Vital and Health Statistics: Meeting

Pursuant to the Federal Advisory Committee Act, the Department of Health and Human Services (HHS) announces the following advisory committee meeting.

Name: National committee on Vital and Health Statistics (NCVHS).

Time and date: June 24, 2003, 9 a.m.-2 p.m.; June 25, 2003, 10 a.m.-12:30 p.m.

Place: Hubert H. Humphrey Building, 200 Independence Avenue SW., Room 705A, Washington, DC 20201.

Status: Open.

Purpose: At this meeting the Committee will hear presentations and hold discussions on several health data policy topics. On the morning of the first day the full Committee will hear updates and status reports from the Department on several topics including an update on HHS Data Council activities, the implementation of the Administrative Simplification provisions of the Health Insurance Portability and Accountability Act of 1996 (HIPAA) as well as on implementation of the HIPAA Privacy Rule. A report on the Consolidated Health Informatics Initiative is also planned. In the afternoon there will be reports from Subcommittees on selected activities. Subcommittee breakout sessions are scheduled for late in the afternoon of the first day and prior to the full Committee meeting on the second day. Agendas for these breakout sessions will be posted on the NCVHS Web site (URL below) when available. On the second day the Committee will hear presentations on the HHS Gateway to Data and Statistics on the web, and on results of a Gallup Survey on Federal Advisory Committee, followed by reports from Subcommittees. Finally, the agendas for future NCVHS meetings will be discussed.

For Further Information Contact: Substantive program information as well as summaries of meetings and a roster of committee members may be obtained from Marjorie S. Greenberg, Executive Secretary, NCVHS, National Center for Health Statistics, Centers for Disease Control and Prevention, 3311 Toledo Road, Room 2402, Hyattsville, Maryland 20782, telephone (301) 458-4245. Information also is available on the NCVHS home page of the HHS Web site: http//www.ncvhs.hhs.gov/, where further information including an agenda will be posted when available.

Dated: June 6, 2003.
James Scanlon,
Acting Director, Office of Science and Data Policy, Office of the Assistant Secretary for Planning and Evaluation.

[FR Doc. 03-14943 Filed 6-12-03; 8:45 am]

BILLING CODE 4151-05-M